DEPARTMENT OF THE INTERIOR

Bureau of Indian Affairs

Notice of Submission of Information Collection to the Office of Management and Budget for Reinstatement

AGENCY: Bureau of Indian Affairs, Interior.

ACTION: Notice.

SUMMARY: The Department of the Interior is submitting the information collection, titled the Bureau of Indian Education Higher Education Grant Application Form, OMB Control #1076-0101, for reinstatement. The Higher Education Grant Application Form needs to be reinstated because it expired during the renewal process.

DATES: Submit comments on or before June 30, 2008.

ADDRESSES: Submit comments on the information collection to the Desk Officer for the Department of the Interior, by facsimile at (202) 395-6566 or you may send an e-mail to: OIRA_DOCKET@omb.eop.gov. Send copies of comments to the Bureau of Indian Education, Department of the Interior, 1849 C Street, NW., MS 3609 MIB, Washington, DC 20240.

FOR FURTHER INFORMATION CONTACT: You may request further information or obtain copies of the information collection request submission from Keith Neves, Bureau of Indian Education, 1849 C Street, NW., MS 3609 MIB, Washington, DC 20240, 202-208-3601.

SUPPLEMENTARY INFORMATION: The Bureau of Indian Education Higher Education Grant Program Annual Report Form (OMB #1076-0106) was published in a 60 day comment notice which included the Higher Education Grant Application Form, OMB #1076-0101 on October 16, 2007 (72 FR 58680). A review of the Higher Education Grant Program Annual Report Form (OMB #1076-0106) determined the information collected no longer needs clearance because it is information already gathered under Higher Education Grant Application Form, OMB #1076-0101. Tribal employees, under Pub. L. 93-638 acting as Federal agents, prepared the report. The information collection under 1076-0101 is mandatory to be considered for a benefit.

Request for Comments: The Bureau of Indian Education requests you to send your comments on this collection of information to the locations listed in the ADDRESSES section. Your comments should address: (a) The necessity of this collection of information for the proper performance of the functions of the agency, including whether the collection of information will have practical utility; (b) The accuracy of the agency's estimate of the burden (hours and costs) of the collection of information, including the validity of the methodology and assumptions used; (c) Ways we could enhance the quality, utility and clarity of the information to be collected; and (d) Ways we could minimize the burden of the collection of the information on the respondents, such as through the use of automated collection techniques or other forms of information technology. Please note that an agency may not sponsor nor request, and an individual need not respond to, a collection of information unless it has a valid OMB Control Number.

It is our policy to make all comments available to the public for review at the Bureau of Indian Education location listed in the ADDRESSES section, room 3609, during the hours of 8 a.m. to 4 p.m. EDT, Monday through Friday except for legal holidays. Before including your address, telephone number, e-mail address or other personally identifiable information, be advised that your entire comment including your personally identifiable information may be made public at any time. While you may request that we withhold your personally identifiable information, we cannot guarantee that we will be able to do so. We do not consider anonymous comments. All comments from representatives of businesses or organizations will be made available for review. We may withhold comments from review for other reasons.

OMB has up to 60 days to make a decision on the submission for renewal, but may make the decision after 30 days. Therefore, to receive the best consideration of your comments, you should submit them closer to 30 days than 60 days.

Title of the Collection of Information: Bureau of Indian Education Higher Education Grant Application, 25 CFR 40.

OMB Control Number: 1076-0101.

Type of Review: Reinstatement.

Brief Description of the Collection of Information: Respondents receiving a benefit must annually complete the form to demonstrate unmet financial need for consideration of a grant.

Respondents: Tribal members and students.

Estimated Number of Respondents: 14,000.

Estimated Time per Response: 1 hour.

Proposed Frequency of Response: Annual.

Total Annual Burden Hours: 14,000 hours.

Dated: May 19, 2008.
Sanjeev “Sonny” Bhagowalia,
Chief Information Officer—Indian Affairs.

[FR Doc. E8-11959 Filed 5-28-08; 8:45 am]

BILLING CODE 4310-6W-P